DEPARTMENT OF TRANSPORTATION

Federal Aviation Administration

14 CFR Part 39

[Docket No. FAA-2006-25102; Directorate Identifier 2006-NM-117-AD; Amendment 39-14666; AD 2006-13-13]

RIN 2120-AA64

Airworthiness Directives; Boeing Model 737 Airplanes

Correction

In rule document 06-5585 beginning on page 35781 in the issue of Thursday, June 22, 2006, make the following correction:

§ 39.13 [Corrected]

On page 35783, in §39.13, in the first column, in the first full paragraph, in the first two lines, “Warning Horn—Cabin Altitude or Configuration Recall” should read “WARNING HORN—CABIN ALTITUDE OR CONFIGURATION

RECALL”.

[FR Doc. C6-5585 Filed 6-30-06; 8:45 am]

BILLING CODE 1505-01-D